DEPARTMENT OF THE INTERIOR

Bureau of Land Management

[OR-130-1020-PF; GP3-0022]

Notice of Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Eastern Washington Resource Advisory Council (RAC), will meet as indicated below.

DATES: The meeting will be held November 20, 2002, in the conference room of the Spokane District BLM Office, beginning at 9 a.m. The public comment period will begin at approximately 11:30 a.m. and the meeting will adjourn at approximately 4 p.m.

SUPPLEMENTARY INFORMATION: The 15-member Council advises the Secretary of the Interior, through the Bureau of Land Management, on a variety of planning and management issues associated with public land management in Eastern Washington. At this meeting, topics we plan to discuss include:

District land exchanges

Orientation of new members

National video downlink, and other topics the council may raise.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below

FOR FURTHER INFORMATION CONTACT: Kathy Helm, Bureau of Land Management, Spokane District Office, 1103 N. Fancher Road, Spokane, Washington, 99212, or call (509) 536-1200.

Dated: October 31, 2002.
Joseph K. Buesing,
District Manager.

[FR Doc. 02-28151 Filed 11-5-02; 8:45 am]

BILLING CODE 4310-33-P